DEPARTMENT OF THE INTERIOR

National Park Service

[2253-665]

Notice of Inventory Completion: University of Colorado Museum, Boulder, CO

AGENCY: National Park Service, Interior.

ACTION: Notice.

Notice is here given in accordance with the Native American Graves Protection and Repatriation Act (NAGPRA), 25 U.S.C. 3003, of the completion of an inventory of human remains in the possession of the University of Colorado Museum, Boulder, CO. The human remains were removed from an unknown geographic location in Wisconsin.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

A detailed assessment of the human remains was made by University of Colorado Museum professional staff in consultation with representatives of the Bad River Band of the Lake Superior Tribe of Chippewa Indians of the Bad River Reservation, Wisconsin; Forest County Potawatomi Community, Wisconsin; Ho-Chunk Nation of Wisconsin; Lac Courte Oreilles Band of Lake Superior Chippewa Indians of Wisconsin; Lac du Flambeau Band of Lake Superior Chippewa Indians of the Lac du Flambeau Reservation of Wisconsin; Menominee Indian Tribe of Wisconsin; Oneida Tribe of Indians of Wisconsin; Red Cliff Band of Lake Superior Chippewa Indians of Wisconsin; St. Croix Chippewa Indians of Wisconsin; Sokaogon Chippewa Community, Wisconsin; and Stockbridge Munsee Community, Wisconsin.

On an unknown date, human remains representing a minimum of one individual were removed from an unknown location in Wisconsin, by D.M. Andrews. In 1963, Mrs. Walter Steele donated the human remains to the museum. No known individual was identified. No associated funerary objects are present.

The remains of this individual are ear bones. Although ear bones do not contain unique indicators, the human remains are reasonably believed to be Native American based on the collecting history of the museum as well as the types of items included in the Steele donation of the D.M. Andrews collection.

Officials of the University of Colorado Museum have determined, pursuant to 25 U.S.C. 3001(2), a relationship of shared group identity cannot be reasonably traced between the Native American human remains and any present-day Indian Tribe.

Wisconsin is the aboriginal land of the Bad River Band of the Lake Superior Tribe of Chippewa Indians of the Bad River Reservation, Wisconsin; Forest County Potawatomi Community, Wisconsin; Ho-Chunk Nation of Wisconsin; Lac Courte Oreilles Band of Lake Superior Chippewa Indians of Wisconsin; Lac du Flambeau Band of Lake Superior Chippewa Indians of the Lac du Flambeau Reservation of Wisconsin; Menominee Indian Tribe of Wisconsin; Red Cliff Band of Lake Superior Chippewa Indians of Wisconsin; St. Croix Chippewa Indians of Wisconsin; and Sokaogon Chippewa Community, Wisconsin, based on Indian Land Cessions 1784-1894 and oral tradition. The Oneida Tribe of Indians of Wisconsin moved to Wisconsin from New York. In the Treaty of 1821 and the Treaty of 1822, 8 million acres of land held by the Menominee in present-day Wisconsin were provided for the use of the Oneida Tribe of Indians of Wisconsin. On August 18, 1821, the Stockbridge Munsee Community (Wisconsin) purchased 2 million acres along the Fox River, in present-day Wisconsin. Today, the reservation boundaries encompass the two townships of Red Springs and Bartelme. Subsequently, they left New York, sold their New York land holdings, and moved to the land purchased from the Menominee and Winnebago Tribes. The Tribes listed in this paragraph represent all of the Federally-recognized Indian Tribes residing in Wisconsin. These Tribes are members of the Wisconsin Inter-Tribal Repatriation Committee. The Ho-Chunk Nation of Wisconsin; Lac Courte Oreilles Band of Lake Superior Chippewa Indians of Wisconsin; Oneida Tribe of Indians of Wisconsin; and Sokaogon Chippewa Community, Wisconsin, signed the disposition agreement that was presented to all of the Tribes consulted. None of the Tribes opposed disposition of the human remains described above to these four Indian Tribes.

Officials of the University of Colorado Museum have determined, pursuant to 25 U.S.C. 3001(9), the human remains described above represent the physical remains of one individual of Native American ancestry. Lastly, officials of the University of Colorado Museum have determined, pursuant to 43 CFR 10.11(c)(1), the disposition of the human remains is to the Ho-Chunk Nation of Wisconsin; Lac Courte Oreilles Band of Lake Superior Chippewa Indians of Wisconsin; Oneida Tribe of Indians of Wisconsin; and Sokaogon Chippewa Community, Wisconsin.

Representatives of any Indian Tribe that believes itself to be culturally affiliated with the human remains or any other Indian Tribe that believes it satisfies the criteria in 43 CFR 10.11(c)(1) should contact Steve Lekson, Curator of Anthropology, University of Colorado Museum, in care of Jan Bernstein, NAGPRA Consultant, Bernstein & Associates, 1041 Lafayette St., Denver, CO 80218, telephone (303) 894-0648, before January 13, 2011. Disposition of the human remains to the Ho-Chunk Nation of Wisconsin; Lac Courte Oreilles Band of Lake Superior Chippewa Indians of Wisconsin; Oneida Tribe of Indians of Wisconsin; and Sokaogon Chippewa Community, Wisconsin, may proceed after that date if no additional claimants come forward.

The University of Colorado Museum is responsible for notifying the Bad River Band of the Lake Superior Tribe of Chippewa Indians of the Bad River Reservation, Wisconsin; Forest County Potawatomi Community, Wisconsin; Ho-Chunk Nation of Wisconsin; Lac Courte Oreilles Band of Lake Superior Chippewa Indians of Wisconsin; Lac du Flambeau Band of Lake Superior Chippewa Indians of the Lac du Flambeau Reservation of Wisconsin; Menominee Indian Tribe of Wisconsin; Oneida Tribe of Indians of Wisconsin; Red Cliff Band of Lake Superior Chippewa Indians of Wisconsin; St. Croix Chippewa Indians of Wisconsin; Sokaogon Chippewa Community, Wisconsin; and Stockbridge Munsee Community, Wisconsin, that this notice has been published.

Dated: December 7, 2010.
Sherry Hutt,
Manager, National NAGPRA Program.

[FR Doc. 2010-31283 Filed 12-13-10; 8:45 am]

BILLING CODE 4312-50-P